DEPARTMENT OF COMMERCE

National Institute of Standards and Technology

[Docket Number: 100114022-0024-01]

Manufacturing Extension Partnership (MEP) Availability of Funds for Three Regions Including the State of Arizona, Chicago Region of the State of Illinois and the Identified Counties in Central Pennsylvania

AGENCY: National Institute of Standards and Technology, Commerce.

ACTION: Notice.

SUMMARY: The National Institute of Standards and Technology invites proposals from qualified organizations for funding projects that provide manufacturing extension services to primarily small- and medium-sized manufacturers in the United States. These projects will establish manufacturing extension centers under the Manufacturing Extension Partnership Program. Proposals are invited for the establishment or continuation of manufacturing extension service within three discrete geographic areas located in Illinois, Arizona and Central Pennsylvania. The three areas are detailed further in the section entitled SUPPLEMENTARY INFORMATION.

DATES: All applications must be received or postmarked no later than 5 p.m. Eastern Time on April 12, 2010. Late proposals will not be reviewed.

ADDRESSES: Hard copy submissions should be sent to: National Institute of Standards and Technology, Manufacturing Extension Partnership, c/o Diane Henderson, 100 Bureau Drive, Stop 4800, Gaithersburg, MD 20899-4800. Electronic submissions should be uploaded to http://www.Grants.gov.

FOR FURTHER INFORMATION CONTACT: A paper copy of the Federal Register Notice (FRN) may be obtained by calling (301) 975-6328. Administrative, budget, cost-sharing, and eligibility questions should be addressed to Diane Henderson at Tel: (301) 975-5105; E-mail: diane.henderson@nist.gov; Fax: (301) 963-6556. Project evaluation criteria and other programmatic questions should be addressed to Alex Folk at Tel: (301) 975-8089; E-mail: alex.folk@nist.gov; Fax: (301) 963-6556. Grants Administration questions should be addressed to: Grants and Agreements Management Division; National Institute of Standards and Technology; 100 Bureau Drive, Stop 1650; Gaithersburg, MD 20899-1650; Tel: (301) 975-6328. For assistance with using Grants.gov contact support@grants.gov or call 800-518-4726. All questions and responses will be posted on the MEP Web site, http://www.mep.nist.gov.

SUPPLEMENTARY INFORMATION: Electronic access: Applicants are strongly encouraged to read the Federal Funding Opportunity (FFO) announcement available at http://www.Grants.gov for complete information about this program, all program requirements, and instructions for applying by paper or electronically.

Authority: 15 U.S.C. 278k, as implemented in 15 CFR Part 290.

Catalog of Federal Domestic Assistance Name and Number: Measurement and Engineering Research and Standards—11.611.

Program Description: The National Institute of Standards and Technology invites proposals from qualified organizations for funding projects that provide manufacturing extension services to primarily small- and medium-sized manufacturers in the United States. These projects will establish manufacturing extension centers under the Manufacturing Extension Partnership Program. Proposals are invited for the establishment or expansion of manufacturing extension service within three discrete geographic areas located in Illinois, Arizona and Central Pennsylvania. The three areas are further detailed below:

• Chicago Region of Illinois—The region includes: McHenry, Kane, DuPage, Cooke, Chicago, Will and Lake counties.

• Arizona—The region includes the entire state of Arizona.

• Central Pennsylvania—The region includes: Bedford, Blair, Centre, Clinton, Huntingdon, Juniata, Lycoming, Mifflin, Montour, Northumberland, Snyder, and Union counties.

The objective of the projects funded under this program is to provide manufacturing extension services to primarily small- and medium-sized manufacturers in the United States. These services are provided through the coordinated efforts of a regionally-based manufacturing extension center and local technology resources. The management and operational structure of the manufacturing extension center is not prescribed, but should be based upon the characteristics of the manufacturers in the regional and locally available resources with demonstrated experience working with manufacturers. The proposal should include plans for integration into the MEP national system and linkages to appropriate national resources. It is not the intent of this program that the centers perform research and development. Please see full program description in the FFO announcement.

Funding Availability: NIST anticipates that up to $3,875,000 in cooperative agreements will be available to support manufacturing extension centers under this announcement. The funding level for individual awards is not prescribed. NIST anticipates funding 3 awards at the level of up to $1,000,000 for the state of Arizona, up to $2,500,000 for the Chicago region of Illinois and up to $375,000 for the Central Pennsylvania region. The projects awarded under this program will have a budget and performance period of one year. Each project may be renewed on an annual basis subject to the review requirements described in 15 CFR 290.8. Renewal of each award shall be at the sole discretion of NIST and shall be based upon satisfactory performance, priority of the need for the service, existing legislative authority, and availability of funds. Projects are expected to start within 30 days of award notice.

Cost Share Requirements: A non-federal cost share contribution from the applicant is required. At a minimum, the applicant must provide per the following table cost share towards the total capital, operating and maintenance costs for the center.

Year of center operation | Maximum NIST share
1-3 | ½
4 | ⅖
5 and beyond | ⅓

The applicant's share of the center expenses may include cash and in-kind contributions. However, at least 50% of the applicant's total cost share (cash plus in-kind) must be in cash. Applicants are encouraged to propose more than the minimum cost share. The source and detailed rationale of the cost share, both cash and in-kind, must be documented in the budget submitted with the proposal and will be considered as part of the evaluation review.

Eligibility: Each Award recipient must be a U.S.-based not-for-profit institution or organization. For the purpose of this solicitation, not-for-profit organizations include universities and state and local governments. Eligible applicants may be consortia of non-profit institutions. Existing and previous centers and partners are eligible as well as organizations without prior experience in the MEP program.

Application Requirements: Applications must be submitted in accordance with the requirements set forth in the corresponding FFO announcement.

Evaluation Criteria: All qualified proposals will be evaluated based on the applicant's ability to align the program criteria to NIST MEP's Next Generation Strategy: Continuous Improvement, Technology Acceleration, Supplier Development, Sustainability and Workforce. The NIST MEP Next Generation Strategy can be found at http://www.mep.nist.gov.

Applications from existing or previous MEP manufacturing extension Centers or partners must contain specific information that addresses whether the applicant's past performance with the program is indicative of expected performance under a possible new award and describing how and why performance is expected to be the same or different.

The following criteria will be utilized by an evaluation panel to rate the proposals. Each proposal should address all four evaluation criteria, which are assigned equal weighting.

(1) Identification of Target Firms in Proposed Region. Does the proposal clearly address the entire service region, providing for a large enough population of target firms of small- and medium-sized manufacturers that the applicant understands and can serve, and which is not presently served by an existing Center?

i. Market Analysis. Demonstrated understanding of the service region's manufacturing base, including business size, industry types, product mix, and technology requirements.

ii. Geographical Location. Physical size, concentration of industry, and economic significance of the service region's manufacturing base. Geographical diversity of the Center as compared to existing Centers will be a factor in evaluation of proposals.

(2) Technology Resources. Does the proposal assure strength in technical personnel and programmatic resources, full-time staff, facilities, equipment, and linkages to external sources of technology to develop and transfer technologies related to NIST research results and expertise in the technical areas noted in the MEP regulations found at 15 CFR Part 290 as well as from other sources of technology research and development?

(3) Technology Delivery Mechanisms. Does the proposal clearly and sharply define an effective methodology for delivering advanced manufacturing technology to small- and medium-sized manufacturers and mechanism(s) for accelerating the adoption of technologies for both process improvement and new product adoption?

i. Linkages. Development of effective partnerships or linkages to third parties such as industry, universities, nonprofit economic organizations, and state governments who will amplify the Center's technology delivery to reach a large number of clients in its service region.

ii. Program Leverage. Provision of an effective strategy to amplify the Center's technology delivery approaches to achieve the proposed objectives as described in 15 CFR 290.3(e).

(4) Management and Financial Plan. Does the proposal define a management structure and assure management personnel to carry out development and operation of an effective Center?

i. Organizational Structure. Completeness and appropriateness of the organizational structure, and its focus on the mission of the Center. Assurance of local full-time top management of the Center. This includes a clearly presented Oversight Board structure with a membership representing small- and medium-sized manufacturers in the region. MEP has determined that centers clearly benefit when a majority or more of its Board members/Trustees compose a membership representing principally small and medium manufacturing as well as committed partners and do not have dual obligations to more than one Center. Two-thirds of the members of the Center's oversight board must not be members of any other MEP Center boards.

ii. Program Management. Effectiveness of the planned methodology of program management. This includes committed local partners and demonstrated experience of the leadership team in manufacturing, outreach and partnership development.

iii. Internal Evaluation. Effectiveness of the planned continuous internal evaluation of program activities. The proposal must provide the methodology for continuous internal evaluation of the program activities and demonstrate the effectiveness of defined methodology.

iv. Plans for Financial Cost Share. Demonstrated stability and duration of the applicant's funding commitments as well as the percentage of operating and capital costs guaranteed by the applicant. Identification of the sources of cost share and the general terms of funding commitments. The total level of cost share and detailed rationale of the cost share, both cash and in-kind, must be documented in the budget submitted with the proposal and will be considered as part of the evaluation review. Applicants proposing more than the minimum required cost share will be assessed more favorably in proportion to any increased cost share amount.

v. Budget. Suitability and focus of the applicant's detailed one-year budget and budget outline for years 2-5 and beyond.

Review and Selection Process: Proposal evaluation and selection will consist of four principal phases: Proposal qualification, proposal review, site visits and award determination.

a. Proposal Qualification

NIST will review all proposals to assure compliance with the proposal content as described in 15 CFR 290.5 and the provisions of this notice. Proposals that satisfy these requirements will be designated as qualified proposals. Non-qualified proposals will not be evaluated and applicants will be notified of disqualification.

b. Proposal Review

NIST will appoint an evaluation panel, consisting of at least one non-Federal Government employee and at least two Federal Government employees, to conduct independent and objective reviews and evaluations of all qualified proposals in accordance with the evaluation criteria set forth in this notice. Based upon this review, the each reviewer will assign a numeric score for each qualified proposal based on the evaluation criteria. The reviewers may discuss the proposal with each other, but scores will be determined on an individual basis, not as a consensus. Proposals with an average score of 70 or higher out of 100 will be deemed finalists and will receive site visits.

c. Site Visits

NIST representatives (the same evaluation panel reviewers) will visit each finalist organization. Finalists will be reviewed and numeric scores adjusted using the criteria set forth in § 290.6 of these procedures assigning equal weight to each of the four categories. NIST may enter into negotiations with the finalists concerning any aspect of their proposal.

Proposals are then ranked based on the sum of the reviewers' final numeric scores. The ranked proposals are then submitted to the Selecting Official, the Director of the NIST MEP Program.

d. Award Determination

The Director of the NIST MEP Program shall make funding recommendations to NIST Grants Officer based on the rank order of applicants and the following selection factors: Availability of Federal funds, the need to assure appropriate regional distribution, and whether the project duplicates other projects funded by the Department of Commerce or other Federal agencies.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. As a result of the selection process, NIST may fund all, some, or parts of the eligible applications submitted, or none at all. The decision of the Grants Officer is final.

Unsuccessful applicants will be notified in writing. The Program will retain one copy of each unsuccessful application for three years for record keeping purposes. The remaining copies will be destroyed.

The Department of Commerce Pre-Award Notification Requirements for Grants and Cooperative Agreements: The Department of Commerce Pre-Award Notification Requirements for Grants and Cooperative Agreements, which are contained in the Federal Register Notice of February 11, 2008 (73 FR 7696), are applicable to this notice. Please refer to http://www.gpoaccess.gov/fr/.

Dun and Bradstreet Data Universal Numbering System: On the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standard Application for Payment System (ASAP). For complex organizations with multiple EIN/TIN and DUNS numbers, the EIN/TIN and DUNS number MUST be the numbers for the applying organization. Organizations that provide incorrect/inconsistent EIN/TIN and DUNS numbers may experience significant delays in receiving funds if their proposal is selected for funding. Please confirm that the EIN/TIN and DUNS number are consistent with the information on the CCR and ASAP.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001. MEP program-specific application requirements have been approved by OMB under Control Number 0693-0056.

Notwithstanding any other provision of the law, no person is required to respond to, nor shall any person be subject to a penalty for failure to comply with, a collection of information subject to the requirements of the Paperwork Reduction Act, unless that collection of information displays a currently valid OMB Control Number.

Funding Availability and Limitation of Liability: The funding periods and funding amounts referenced in this notice and request for proposals are subject to the availability of funds, as well as to Department of Commerce and NIST priorities at the time of award. The Department of Commerce and NIST will not be held responsible for proposal preparation costs. Publication of this notice does not obligate the Department of Commerce or NIST to award any specific grant or cooperative agreement or to obligate all or any part of available funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553 (a)). Because notice and comment are not required under 5 U.S.C 553, or any other law, for rules relating to public property, loans, grants, benefits or contracts (5 U.S.C.553(a)), a Regulatory Flexibility Analysis is not required and has not been prepared for this notice, 5 U.S.C. 601 et seq.

Dated: February 4, 2010.
Marc G. Stanley,
Acting Deputy Directo.

[FR Doc. 2010-2799 Filed 2-8-10; 8:45 am]

BILLING CODE 3510-13-P